NATIONAL SCIENCE FOUNDATION

Sunshine Act Meetings

The National Science Board's Committee on Awards and Facilities (A&F) hereby gives notice of the scheduling of meetings for the transaction of National Science Board business pursuant to the National Science Foundation Act and the Government in the Sunshine Act.

TIME AND DATE: The A&F meeting will be held on Monday, February 10, 2025. The open session will be from 2:30 p.m.-3:00 p.m. The closed session will be from 3:00 p.m.-5:00 p.m.

PLACE: The meetings will be held at NSF headquarters, 2145 Eisenhower Ave., Alexandria, VA 22314, and by videoconference.

STATUS: One session is open, and one session is closed.

MATTERS TO BE CONSIDERED:

A&F open session agenda: Opening Remarks; Information Item: Summit Station Recapitalization.

A&F closed session agenda: Opening Remarks regarding the agenda; Discussion and Vote: National Radio Astronomy Observatory Operations and Maintenance Award Authorization Level Increase; Context Item: Mid-scale Research Infrastructure Program Track 2; Context Item: National Geophysical Facility.

CONTACT PERSON FOR MORE INFORMATION: Point of contact for this meeting is: Michelle McCrackin, mmccrack@nsf.gov, (703) 292-7000. Members of the public can observe the public portion of this meeting through a YouTube livestream: https://youtube.com/live/45FMoMrZar8?feature=share.

Ann E. Bushmiller,
Senior Legal Counsel to the National Science Board.

[FR Doc. 2025-02403 Filed 2-5-25; 11:15 am]

BILLING CODE 7555-01-P